FEDERAL DEPOSIT INSURANCE CORPORATION

Notice to All Interested Parties of Intent To Terminate Receiverships

Notice is hereby given that the Federal Deposit Insurance Corporation (FDIC or Receiver), as Receiver for the institutions listed below, intends to terminate its receivership for said institutions.

Notice of Intent To Terminate Receiverships
Fund | Receivership name | City | State | Date of appointment of receiver
10125 | Warren Bank | Warren | MI | 10/02/2009
10162 | Citizens State Bank | New Baltimore | MI | 12/18/2009
10164 | Rockbridge Commercial Bank | Atlanta | GA | 12/18/2009
10166 | Independent Bankers' Bank | Springfield | IL | 12/18/2009
10171 | Barnes Banking Company | Kaysville | UT | 01/15/2010
10193 | Centennial Bank | Ogden | UT | 03/05/2010
10221 | Lincoln Park Savings Bank | Chicago | IL | 04/23/2010
10265 | Crescent Bank and Trust Company | Jasper | GA | 07/23/2010
10273 | Liberty Bank | Eugene | OR | 07/30/2010
10275 | The Cowlitz Bank | Longview | WA | 07/30/2010
10276 | Ravenswood Bank | Chicago | IL | 08/06/2010
10297 | Premier Bank | Jefferson City | MO | 10/15/2010
10308 | K Bank | Randallstown | MD | 11/05/2010
10315 | First Banking Center | Burlington | WI | 11/19/2010
10324 | The Bank of Miami, N.A | Coral Gables | FL | 12/17/2010
10486 | Community South Bank | Parsons | TN | 08/23/2013
10524 | Seaway Bank and Trust | Chicago | IL | 01/27/2017

The liquidation of the assets for each receivership has been completed. To the extent permitted by available funds and in accordance with law, the Receiver will be making a final dividend payment to proven creditors. Based upon the foregoing, the Receiver has determined that the continued existence of the receiverships will serve no useful purpose. Consequently, notice is given that the receiverships shall be terminated, to be effective no sooner than thirty days after the date of this notice. If any person wishes to comment concerning the termination of any of the receiverships, such comment must be made in writing, identify the receivership to which the comment pertains, and be sent within thirty days of the date of this notice to: Federal Deposit Insurance Corporation, Division of Resolutions and Receiverships, Attention: Receivership Oversight Section, 600 North Pearl, Suite 700, Dallas, TX 75201. No comments concerning the termination of the above-mentioned receiverships will be considered which are not sent within this timeframe.

(Authority: 12 U.S.C. 1819)

Federal Deposit Insurance Corporation.
Dated at Washington, DC, on February 22, 2024.
James P. Sheesley,
Assistant Executive Secretary.

[FR Doc. 2024-04071 Filed 2-27-24; 8:45 am]

BILLING CODE 6714-01-P